COMMODITY FUTURES TRADING COMMISSION

Technology Advisory Committee

AGENCY: Commodity Futures Trading Commission.

ACTION: Notice of Meeting.

SUMMARY: The Commodity Futures Trading Commission (CFTC or Commission) announces that the public meeting for the CFTC's Technology Advisory Committee (TAC) initially scheduled on January 21, 2014, was postponed due to the inclement weather that closed the Federal Government. The TAC meeting has been rescheduled for February 10, 2014, from 10:00 a.m. to 5:00 p.m. at the CFTC's Washington, DC headquarters. The TAC meeting will focus on swap data reporting; the Commission's concept release on automated trading environments; and swap execution facilities.

DATES: The meeting will be held on February 10, 2014, from 10:00 a.m. to 5:00 p.m. Members of the public who wish to submit written statements in connection with the meeting should submit them by February 3, 2014. The Commission is announcing the meeting with less than 15 calendar days public notice because the meeting is being rescheduled due to the inclement weather that closed the Federal Government.

ADDRESSES: The meeting will take place in the Conference Center at the CFTC's headquarters, Three Lafayette Centre, 1155 21st Street NW., Washington, DC 20581. Written statements should be submitted by electronic mail to: secretary@cftc.gov. Statements may also be submitted by mail to: Commodity Futures Trading Commission, Three Lafayette Centre, 1155 21st Street NW., Washington, DC 20581, attention: Office of the Secretary. Please use the title “Technology Advisory Committee” in any written statement you submit. Any statements submitted in connection with the committee meeting will be made available to the public.

FOR FURTHER INFORMATION CONTACT: Amir Zaidi, TAC Designated Federal Officer, Commodity Futures Trading Commission, Three Lafayette Centre, 1155 21st Street NW., Washington, DC 20581, (202) 418-6770.

SUPPLEMENTARY INFORMATION: The CFTC is rescheduling the public meeting of the CFTC TAC that had been announced for January 21, 2014 (see 79 FR 646, Jan. 6, 2014). That meeting was postponed due to the inclement weather that closed the Federal Government. The CFTC TAC will now hold a public meeting on Monday, February 10, 2014, from 10:00 a.m. to 5:00 p.m. at the CFTC's Washington, DC, headquarters. The TAC meeting will focus on significant issues facing the futures and swaps industries as the Commission continues to implement rules under the Dodd-Frank Act. These issues include: (1) Swap data reporting; (2) the Commission's concept release on automated trading environments; and (3) various issues surrounding the operation of swap execution facilities.

The meeting will be open to the public with seating on a first-come, first-served basis. Persons requiring special accommodations to attend the meeting because of a disability should notify the contact person listed above.

Members of the public may also listen to the meeting by telephone by calling a toll-free telephone line to connect to a live, listen-only audio feed. Call-in participants should be prepared to provide their first name, last name, and affiliation. The call-in information is as follows:

Domestic Toll Free: 1-866-844-9416.

International Toll and Toll Free: Will be posted on the CFTC's Web site, http://www.cftc.gov, on the page for the meeting, under Related Documents.

Conference ID: 3976745.

Pass Code/Pin Code: 7493290.

After the meeting, a transcript of the meeting will be published through a link on the CFTC's Web site, http://www.cftc.gov. All written submissions provided to the CFTC in any form will also be published on the CFTC's Web site.

Authority: (5 U.S.C. Appendix, Federal Advisory Committee Act, Sec. 10(a)(2))

Dated: January 24, 2014.
Christopher J. Kirkpatrick,
Deputy Secretary of the Commission.

[FR Doc. 2014-01684 Filed 1-29-14; 8:45 am]

BILLING CODE 6351-01-P